NATIONAL AERONAUTICS AND SPACE ADMINISTRATION

[Notice (12-027)]

NASA Advisory Council; Commercial Space Committee; Meeting

AGENCY: National Aeronautics and Space Administration.

ACTION: Notice of Meeting.

SUMMARY: In accordance with the Federal Advisory Committee Act, Public Law 92-463, as amended, the National Aeronautics and Space Administration announces a meeting of the Commercial Space Committee of the NASA Advisory Council.

DATES: Tuesday, May 1, 2012, 8 a.m.-2:45 p.m.; Local Time.

ADDRESSES: Ohio Aerospace Institute (OAI); 22800 Cedar Point Road; Conference Room: The President's Room; Cleveland, OH 44142.

FOR FURTHER INFORMATION CONTACT: Mr. Thomas W. Rathjen, Human Exploration and Operations Mission Directorate, National Aeronautics and Space Administration Headquarters, 300 E Street SW., Washington, DC 20546, 202-358-0552; thomas.w.rathjen-1@nasa.gov.

SUPPLEMENTARY INFORMATION: The agenda topics for the meeting will include:

• Overview of Glenn Research Center's Commercial Space Activities and Plans

• Overview of Langley Research Center's Commercial Space Activities and Plans

• Overview of Johnson Space Center's Commercial Space Activities and Plans

• Commercial Crew Program Certification Phase Strategy

• Federal Aviation Administration Center of Excellence for Commercial Space Transportation

• Office of Safety and Mission Assurance Comments on Transition to Commercial Space

The meeting will be open to the public up to the seating capacity of the room. This meeting is also available telephonically and by WebEx. You must use a touch tone phone to participate in this meeting. Any interested person may dial access number, 1-866-692-3158 or 1-203-418-3123 and then enter the numeric participant passcode: 5012012 followed by the # sign. To join via WebEx the link is https://nasa.webex.com/, meeting number 999 344 641, and password NACCSC@0501. It is imperative that the meeting be held on this date to accommodate the scheduling priorities of the key participants. U.S. Citizens and Foreign Nationals can attend this meeting without prior registration. Parking at OAI is free and the public may begin entering the building at 7:45 a.m.

Patricia D. Rausch,
Advisory Committee Management Officer, National Aeronautics and Space Administration.

[FR Doc. 2012-8347 Filed 4-5-12; 8:45 am]

BILLING CODE 7510-13-P